DEPARTMENT OF ENERGY

Federal Energy Regulatory Commission

[Docket No. ER00-741-001]

Canal Emirates Power International, Inc.; Notice of Filing

March 7, 2000.

Take notice that on February 25, 2000, Canal Emirates Power International, Inc. (Canal), 22 Charles Street, Binghamton, New York 13905-2247, tendered for filing with the Federal Energy Regulatory Commission a revision to its market-based rate tariff. The filing consisted of 1st Revised Sheet No. 1, which superseded Original Sheet No. 1. The filing is intended to comply with the January 27, 2000 order of the Federal Energy Regulatory Commission in the above-referenced docket, which granted the Petition of Canal Emirates Power International, Inc., for Acceptance of Initial Rate Schedule, Waivers and Blanket Authority, subject to the requirement that Canal revise its rate schedule to limit its authority to sell ancillary services to sales into the markets administered by the New York ISO.

Canal is a privately-held New York corporation having its principal place of business at 22 Charles Street, Binghamton, New York 13905-2247. Canal is the owner of a 50 MW cogeneration facility that is located in Binghamton. Canal is engaged directly and exclusively in the business of owning or operating, or both owning and operating, all or part of one or more eligible facilities and selling electric energy at wholesale. Canal does not have any affiliate corporations.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before March 17, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-5974 Filed 3-10-00; 8:45 am]

BILLING CODE 6717-01-M